DEPARTMENT OF COMMERCE

National Oceanic and Atmospheric Administration

50 CFR Part 679

[Docket No. 250312-0036; RTID 0648-XF144]

Fisheries of the Exclusive Economic Zone Off Alaska; Exchange of Flatfish in the Bering Sea and Aleutian Islands Management Area

AGENCY: National Marine Fisheries Service (NMFS), National Oceanic and Atmospheric Administration (NOAA), Commerce.

ACTION: Temporary rule; reallocation.

SUMMARY: NMFS is exchanging allocations of Amendment 80 cooperative quota (CQ) for Amendment 80 acceptable biological catch (ABC) reserves. This action is necessary to allow the 2025 total allowable catch (TAC) of yellowfin sole in the Bering Sea and Aleutian Islands management area (BSAI) to be harvested.

DATES: Effective August 26, 2025, through December 31, 2025.

FOR FURTHER INFORMATION CONTACT: Steve Whitney, 907-586-7228.

SUPPLEMENTARY INFORMATION: NMFS manages the groundfish fishery in the BSAI according to the Fishery Management Plan for Groundfish of the Bering Sea and Aleutian Islands Management Area (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The 2025 flathead sole, rock sole, and yellowfin sole Amendment 80 allocations of the TAC specified in the BSAI are 30,148 metric tons (mt), 63,975 mt, and 105,837 mt, respectively, as established by the final 2025 and 2026 harvest specifications for groundfish in the BSAI (90 FR 12640, March 18, 2025). The 2025 flathead sole, rock sole, and yellowfin sole Amendment 80 ABC reserves are 42,692 mt, 73,661 mt, and 113,908 mt, respectively, as established by the final 2025 and 2026 harvest specifications for groundfish in the BSAI (90 FR 12640, March 18, 2025).

The Alaska Seafood Cooperative has requested that NMFS exchange 9,000 mt of flathead sole TAC allocated to the Amendment 80 sector and 8,000 mt of rock sole TAC allocated to the Amendment 80 sector for 17,000 mt of yellowfin sole Amendment 80 ABC reserves pursuant to §§ 679.91(i)(3) and 679.4(p). NMFS approves the completed Flatfish Exchange Application submitted by the Alaska Seafood Cooperative, which meets all the criteria specified at § 679.4(p)(3). Specifically, the Alaska Seafood Cooperative has sufficient ABC reserves of yellowfin sole, is exchanging an equal amount of unused flathead sole and rock sole, approval will not cause harvest to exceed an ABC or ABC reserve for any of these species, and NMFS can approve the exchange before the end of the calendar year in which it would be effective. Therefore, NMFS exchanges 9,000 mt of flathead sole TAC allocated to the Amendment 80 sector and 8,000 mt of rock sole TAC allocated to the Amendment 80 sector for 17,000 mt of yellowfin sole Amendment 80 ABC reserves in the BSAI. This action also decreases and increases the TACs and Amendment 80 ABC reserves by the corresponding amounts. Tables 13 and 15 of the final 2025 and 2026 harvest specifications for groundfish in the BSAI (90 FR 12640, March 18, 2025) are revised as follows:

Table 13—Final 2025 Community Development Quota (CDQ) Reserves, Incidental Catch Amounts (ICAs), and Amendment 80 Allocations of the Aleutian Islands Pacific Ocean Perch and BSAI Flathead Sole, Rock Sole, and Yellowfin Sole TACs
[Amounts are in metric tons]
Sector | Pacific ocean perch: Eastern Aleutian district | Pacific ocean perch: Central Aleutian district | Pacific ocean perch: Western Aleutian district | Flathead sole BSAI | Rock sole BSAI | Yellowfin sole BSAI
TAC | 6,278 | 5,559 | 11,500 | 27,000 | 67,000 | 152,000
CDQ | 672 | 595 | 1,231 | 3,852 | 8,025 | 14,445
ICA | 100 | 60 | 10 | 2,000 | 3,000 | 2,000
BSAI trawl limited access | 551 | 490 | 205 |  |  | 12,718
Amendment 80 | 4,956 | 4,414 | 10,054 | 21,148 | 55,975 | 122,837
Note: Sector apportionments may not total precisely due to rounding.

Table 15—Final 2025 and 2026 ABC Surplus, ABC Reserves, Community Development Quota (CDQ) ABC Reserves, and Amendment 80 ABC Reserves in the BSAI for Flathead Sole, Rock Sole, and Yellowfin Sole
[Amounts are in metric tons]
Sector | 2025 Flathead sole | 2025 Rock sole | 2025 Yellowfin sole | 2026 ¹ Flathead sole | 2026 ¹ Rock sole | 2026 ¹ Yellowfin sole
ABC | 83,807 | 157,487 | 262,557 | 87,700 | 158,225 | 267,639
TAC | 27,000 | 67,000 | 152,000 | 36,000 | 75,000 | 145,000
ABC surplus | 56,807 | 90,487 | 144,557 | 51,700 | 83,225 | 122,639
ABC reserve | 56,807 | 90,487 | 144,557 | 51,700 | 83,225 | 122,639
CDQ ABC reserve | 5,115 | 8,826 | 13,649 | 5,532 | 8,905 | 13,122
Amendment 80 ABC reserve | 51,692 | 81,661 | 96,908 | 46,168 | 74,320 | 109,517
¹ The 2026 allocations for Amendment 80 species between Amendment 80 cooperatives and the Amendment 80 limited access sector will not be known until eligible participants apply for participation in the program by November 1, 2025.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would not allow for full harvest of yellowfin sole in the BSAI by the Amendment 80 sector. NMFS was unable to publish a notice providing time for public comment because the most recent, relevant data on flathead sole, rock sole, and yellowfin sole only became available as of August 25, 2025. Without this inseason adjustment, NMFS could not allow the fishery for yellowfin sole in the BSAI to be harvested in an expedient manner.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: August 26, 2025.
Kelly Denit,
Director, Office of Sustainable Fisheries, National Marine Fisheries Service.

[FR Doc. 2025-16539 Filed 8-26-25; 4:15 pm]

BILLING CODE 3510-22-P